DEPARTMENT OF THE INTERIOR

Fish and Wildlife Service

Endangered and Threatened Species Permit Applications

AGENCY: Fish and Wildlife Service, Interior.

ACTION: Notice of receipt of applications.

SUMMARY: The following applicants have applied for a scientific research permit to conduct certain activities with endangered species pursuant to section 10(a)(1)(A) of the Endangered Species Act of 1973, as amended (16 U.S.C. 1531, et seq.).

DATES: Written comments on these permit applications must be received within 30 days of the date of publication.

ADDRESSES: Written data or comments should be submitted to the Chief, Endangered Species Division, Ecological Services, P.O. Box 1306, Room 4102, Albuquerque, New Mexico 87103; (505) 248-6649; Fax (505) 248-6788. Documents will be available for public inspection by written request, by appointment only, during normal business hours (8:00 to 4:30) at the U.S. Fish and Wildlife Service, 500 Gold Ave. SW, Room 4102, Albuquerque, New Mexico. Please refer to the respective permit number for each application when submitting comments. All comments received, including names and addresses, will become part of the official administrative record and may be made available to the public.

FOR FURTHER INFORMATION CONTACT: Chief, Endangered Species Division, P.O. Box 1306, Room 4102, Albuquerque, New Mexico 87103. Documents and other information submitted with these applications are available for review, subject to the requirements of the Privacy Act and Freedom of Information Act, by any party who submits a written request for a copy of such documents within 30 days of the date of publication of this notice, to the address above.

SUPPLEMENTARY INFORMATION:

[Permit No. TE-054791]

Applicant: Bryce Marshall, Flagstaff, Arizona.

Applicant requests permit for recovery purposes to conduct presence/absence and monitoring surveys within Arizona for the following species: Mexican long-nosed bat (Leptonycteris nivalis), lesser long-nosed bat (Leptonycteris curasoae (=sanborni) yerbabuenae), southwestern willow flycatcher (Empidonax traillii extimus), and cactus ferruginous pygmy owl (Glaucidium brasilianum cactorum). In addition, applicant requests same permit to allow presence/absence surveys for the Mexican spotted owl (Strix occidentalis lucida) within Arizona and Utah.

[Permit No. TE-054802]

Applicant: Tony Adkins, Durango, Colorado.

Applicant requests permit for recovery purposes to conduct presence/absence surveys for the southwestern willow flycatcher (Empidonax traillii extimus) within Arizona, New Mexico, Colorado, Utah, and California.

[Permit No. TE-054803]

Applicant: Michael Larisch, El Paso, Texas.

Applicant requests permit for recovery purposes to conduct presence/absence surveys and nest monitoring for the northern aplomado falcon (Falco femoralis septentrionalis) within New Mexico.

[Permit No. TE-054804]

Applicant: Andrew C. Kasner, College Station, Texas.

Applicant requests permit for recovery purposes to conduct presence/absence and monitoring surveys for the interior least tern (Sterna antillarum) within Texas.

[Permit No. TE-054844]

Applicant: ALL Consulting, Edwardsville, Illinois.

Applicant requests permit for recovery purposes to conduct presence/absence and monitoring surveys and habitat identification for the interior least tern (Sterna antillarum) along the Red River within Texas, Oklahoma, and Arkansas.

[Permit No. TE-055006]

Applicant: ENSR International, Houston, Texas.

Applicant requests permit for recovery purposes to conduct presence/absence surveys for the golden-cheeked warbler (Dendroica chrysoparia) and black-capped vireo (Vireo atricapillus) within Texas.

Stephen C. Helfert,
Assistant Regional Director, Ecological Services, Region 2, Albuquerque, New Mexico.

[FR Doc. 02-11250 Filed 5-6-02; 8:45 am]

BILLING CODE 4310-55-P